DEPARTMENT OF TRANSPORTATION

Federal Aviation Administration

Eighth Plenary Meeting, Special Committee 214/EUROCAE: Standards for Air Traffic; Data Communication Services, Working Group 78 (WG-78)

AGENCY: Federal Aviation Administration (FAA), DOT.

ACTION: Notice of RTCA Special Committee 214, Standards for Air Traffic Data Communication Services.

SUMMARY: The FAA is issuing this notice to advise the public of a meeting of the RTCA Special Committee 214, Standards for Air Traffic Data Communication Services.

DATES: The meeting will be held September 21-25, 2009 from 9 a.m.-5 p.m.

ADDRESSES: The meeting will be held at AIRBUS, Sites Clément Ader, Jean-Luc Lagardére, Avenue d'Aéroconstellation, 31700 Blagnac, Toulouse, France.

SUPPLEMENTARY INFORMATION: Pursuant to section 10(a)(2) of the Federal Advisory Committee Act (Pub. L. 92-463, 5 U.S.C., Appendix 2), notice is hereby given for a Special Committee 214, Standards for Air Traffic Data Communication Services meeting. The agenda will include:

Meeting Objectives

• Acceptance of the following documents to complete further SPR work by Dec 09:

• First draft of D-TAXI Graphic OSD

• First draft of 4DTRAD OSD

• First draft of FLIPINT OSD

• First draft of D-RVR

• First draft of D-HXWZ

• Acceptance of the proposed resolution of WP1 Open issues

• Review of Oceanic position paper

• Review ATS functions Section position paper

• Review the ATSA-ITP position paper

• Progress on WP2 OSA & OPA

• Progress on WP2 Material integration into Integrated SPR

• Progress on interoperability material

• Review and update the work plan as required

Agenda

Day 1: Joint Sub-Group Meetings

Morning & Afternoon

• Sub-Groups coordination

• SG meetings

Days 2, 3: SG Comment Resolution Working Sessions

Morning & Afternoon

• WP1 Sub-group:

• D-TAXI Graphics OSD sub-Group

• WP1 Open issues sub-group

• WP2 Sub-Group:

• WP2 OSA & OPA sub-group

• WP2 material Integration sub-group

• Interop Sub-Group

Day 4: Plenary

• Welcome/Introductions/Administrative Remarks

• Election of European Co-Chair

• Approval of the Agenda

• Approval of the Minutes of Plenary 7

• Review Actions

• Review of the work so far

• SC-214/WG-78 Work Plan and TORs

• SC-206/WG-76 Coordination

• SC-186/WG-51 Coordination

• Sub-Group Progress reports

• Review of Oceanic Position paper

• Review of ATS Function definition Position paper

• Review of ATSA-ITP Position paper

• Subgroups progress reports

• Document Approvals

• Review Committee Plan—Master Schedule

• Review Dates, Location and Agenda for Next Meeting

• Any Other Business (GOLD paper)

Day 5: SGs Meetings

Morning & Afternoon

• Implementation of Plenary agreed actions

Additional Information: All the documents to be reviewed can be found at the website http://www.faa.gov/go/SC214 under the Plenary 8 folder.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 8, 2009
Francisco Estrada C.,
RTCA Advisory Committee.

[FR Doc. E9-22025 Filed 9-11-09; 8:45 am]

BILLING CODE 4910-13-P